SMALL BUSINESS ADMINISTRATION

[Declaration of Disaster #3441]

State of Nebraska

Keith County and the contiguous counties of Arthur, Deuel, Garden, Lincoln, McPherson and Perkins in the State of Nebraska; and Sedgwick County in the State of Colorado constitute a disaster area as a result of severe storms and flooding that occurred on July 6, 2002. Applications for loans for physical damage as a result of this disaster may be filed until the close of business on November 12, 2002 and for economic injury until the close of business on June 13, 2003 at the address listed below or other locally announced locations: Small Business Administration, Disaster Area 3 Office, 4400 Amon Carter Blvd., Suite 102, Ft. Worth, TX 76155.

The interest rates are:

| Percent
For Physical Damage:
Homeowners With Credit Available Elsewhere | 6.750
Homeowners Without Credit Available Elsewhere | 3.375
Businesses With Credit Available Elsewhere | 7.000
Businesses and Non-Profit Organizations Without Credit Available Elsewhere | 3.500
Others (Including Non-Profit Organizations) With Credit Available Elsewhere | 6.375
For Economic Injury:
Businesses and Small Agricultural Cooperatives Without Credit Available Elsewhere | 3.500

The number assigned to this disaster for physical damage is 344111 for Nebraska and 344211 for Colorado. The number assigned to this disaster for economic injury is 9R5500 for Nebraska and 9R5600 for Colorado.

(Catalog of Federal Domestic Assistance Program Nos. 179002 and 179008)

Dated: September 13, 2002.
Hector V. Barreto,
Administrator.

[FR Doc. 02-24139 Filed 9-20-02; 8:45 am]

BILLING CODE 8025-01-P